DEPARTMENT OF ENERGY

Federal Energy Regulatory Commission

Combined Notice of Filings #2

Take notice that the Commission received the following electric rate filings:

Docket Numbers: ER12-2449-000.

Applicants: Entergy Arkansas, Inc., Entergy Mississippi, Inc., Entergy Services, Inc.

Description: EMI-Quantum 2nd Rev. SA 535 to be effective 5/31/2012.

Filed Date: 8/14/12.

Accession Number: 20120814-5125.

Comments Due: 5 p.m. ET 9/4/12.

Docket Numbers: ER12-2450-000.

Applicants: PJM Power Marketing LLC.

Description: Market-Based Rates Tariff to be effective 8/14/2012.

Filed Date: 8/15/12.

Accession Number: 20120815-5000.

Comments Due: 5 p.m. ET 9/5/12.

Docket Numbers: ER12-2451-000.

Applicants: El Paso Electric Company.

Description: El Paso Electric Company submits tariff filing per 35.15: Termination of Rate Schedule No. 110 LGIA with Mescalero Ridge to be effective 7/16/2012.

Filed Date: 8/15/12.

Accession Number: 20120815-5098.

Comments Due: 5 p.m. ET 9/5/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 15, 2012.
Nathaniel J. Davis, Sr.,
Deputy Secretary.

[FR Doc. 2012-21137 Filed 8-27-12; 8:45 am]

BILLING CODE 6717-01-P